DEPARTMENT OF AGRICULTURE

Forest Service

California Coast Provincial Advisory Committee

AGENCY: Forest Service, USDA.

ACTION: Notice of meeting.

SUMMARY: The California Coast Provincial Advisory Committee (PAC) will meet on September 25 and 26, 2002, in Humboldt County, California. The purpose of the meeting is to conduct field monitoring relating to implementing the Northwest Forest Plan. Three Late Successional Reserve density management projects on federal lands will be monitored for compliance with Standards and Guidelines.

DATES: The monitoring field trip will be from 9 a.m. to 3:30 p.m. on September 25 and from 8 a.m. to 5 p.m. on September 26.

ADDRESSES: The September 25 field trip will begin at the Bureau of Land Management office, 1695 Heindon Rd., in Acrata, CA, and travel to Lacks Creek. The September 26 field trip will begin at the Forest Supervisor's Office, Six Rivers National Forest, 1330 Bayshore Way, Eureka, CA, and travel to a project on the North Fork Eel River and a road decommissioning project on the national forest.

FOR FURTHER INFORMATION CONTACT: Phebe Brown, Committee Coordinator, USDA, Mendocino National Forest, 825 N. Humboldt Avenue, Willows, CA 95988, (530) 934-3316; e-mail pybrown@fs.fed.us.

SUPPLEMENTARY INFORMATION: The meeting is open to the public. Public input opportunity will be provided and individuals will have the opportunity to address the Committee.

Dated: September 6, 2002.
James Fenwood,
Forest Supervisor.

[FR Doc. 02-23363 Filed 9-12-02; 8:45 am]

BILLING CODE 3410-11-M